DEPARTMENT OF COMMERCE

Foreign-Trade Zones Board

[B-47-2013]

Notification of Proposed Production Activity; Vestas Nacelles America, Inc.; Subzone 123E (Wind Turbines); Brighton, Denver, Pueblo, and Windsor, Colorado

Vestas Nacelles America, Inc. (Vestas), operator of Subzone 123E, submitted a notification of proposed production activity for its facilities in Brighton, Denver, Pueblo, and Windsor, Colorado. The notification conforming to the requirements of the regulations of the Foreign-Trade Zones Board (15 CFR 400.22) was received on May 3, 2013.

The subzone currently has authority to produce wind turbines and related products (nacelles, hubs, blades, and towers) under FTZ procedures using certain foreign inputs. The current request involves the use of additional inputs in the production of the finished products noted above. Pursuant to 15 CFR 400.14(b) of the regulations, FTZ activity would be limited to the specific foreign-status materials and components and specific finished products described in the submitted notification (as described below) and subsequently authorized by the FTZ Board.

Production under FTZ procedures could exempt Vestas from customs duty payments on the foreign status components used in export production. On its domestic sales, Vestas would be able to choose the duty rates during customs entry procedures that apply to wind turbines, nacelles, hubs, blades, and towers (free, 2.5%) for the foreign status inputs noted below. Customs duties also could possibly be deferred or reduced on foreign status production equipment.

Components and materials sourced from abroad include: ethyl alcohol (denatured); acrylic/poly-based paints; caulking/sealants; liquid soaps; degreasers; oils and lubricants; assembly pastes; antifreeze/coolants; fiberglass plates; plastic pipes/tubes/hoses/tapes/sheeting/trays/cable supports/covers/bags/plugs/bottles/collectors; rubber profiles/strips/sealing lips/hoses/blocks; cardboard containers and frames; gloves; oil sampling kits, of glass; exhaust hoses; cover plates; steel pipes/fittings/containers/cables/chain/grills/locks; fasteners; terminals; bushings; grips; shims; aluminum plates/sleeves/covers/rivets; pumps; wheel assemblies; guards; dehumidifiers; cooling units; condensate heaters; heat exchangers; slip rings; filters; kabi sprayers; bearings; shafts; yaw gears; couplings; gaskets; seals; actuators; rotors; electrical components (terminals, transformers, toroids, coils, cables, insulators); heaters; batteries; lamps/lights; valves; consoles; cabinets; lightning conductors; sensors; aspiration boxes; torque arm modules; hubs; and, parts of transport units (duty rate ranges from free to 12.5%).

Public comment is invited from interested parties. Submissions shall be addressed to the Board's Executive Secretary at the address below. The closing period for their receipt is July 3, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov, or (202) 482-1378.

Dated: May 17, 2013.
Andrew McGilvray,
Executive Secretary.

[FR Doc. 2013-12346 Filed 5-23-13; 8:45 am]

BILLING CODE 3510-DS-P